DEPARTMENT OF COMMERCE

Census Bureau

Proposed Information Collection; Comment Request; 2020 Census Post-Enumeration Survey Initial and Final Housing Unit Follow-Up

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before June 17, 2019.

ADDRESSES: Direct all written comments to Jennifer Jessup, Departmental Paperwork Clearance Officer, Department of Commerce, Room 6616, 14th and Constitution Avenue NW, Washington, DC 20230 (or via the internet at docpra@doc.gov). You may also submit comments, identified by Docket number USBC-2019-0002, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, WordPerfect, or Adobe PDF file formats only.

FOR FURTHER INFORMATION CONTACT: Requests for additional information or copies of the information collection instrument(s) and instructions should be directed to Robin A. Pennington, U.S. Census Bureau, 4600 Silver Hill Road, Room 2H465, Washington, DC 20233, 301-763-8132 (or via the internet at Robin.A.Pennington@census.gov).

SUPPLEMENTARY INFORMATION:

I. Abstract

As in previous censuses, the Post-Enumeration Survey (PES) for the 2020 Census will be conducted to provide estimates of census net coverage and components of census coverage (such as correct enumerations, omissions, erroneous enumerations [including duplicates], and whole-person imputations) for housing units and people living in housing units for the United States and Puerto Rico, excluding remote Alaska. (See Definition of Terms.) Group quarters (such as college dormitories and correctional facilities) are out of scope because populations can change significantly between census enumeration and PES enumeration operations. Similarly, remote Alaska is out of scope for the PES because the seasonal nature of addresses and the population throughout the year make it infeasible to accurately conduct the matching and follow-up operations necessary for dual-system estimation. For this reason, the Census Bureau's past post-enumeration surveys have never included remote Alaska. These coverage estimates provide insight into the quality and coverage of census results and operations. As in the past, including in the 2010 Census Coverage Measurement program, the 2020 PES operations and activities must be conducted separate from, and independent of, the other 2020 Census operations.

The 2020 PES will use the dual-system estimation procedure, which depends on two independent systems of measurement. The independence between the PES and census operations is a fundamental necessity for dual-system estimation. The PES will comprise two independent enumerations of housing units and the household population within the same sample areas. These two enumerations are called the enumeration sample (E sample) and the population sample (P sample). The primary sampling unit is the basic collection unit (BCU), which is the smallest unit of collection geography for 2020 Census operations. The E sample contains the list of housing units and people enumerated in the 2020 Census within a sample of BCUs. The P sample contains housing units and people in the sample set of sample BCUs, but obtained independently from the census. The independent roster of housing units is obtained during the PES Independent Listing, while the independent roster of people is obtained during the PES Person Interview. The P sample housing units and people will be matched to all census housing units in the sample BCUs and surrounding BCUs.

During the Independent Listing operation, field staff, referred to as “listers,” will canvass every street, road, or other place where people might live in their assigned BCUs and construct a list of housing units from scratch. Following the completion of listing for each BCU, the addresses are computer and clerically matched in the Initial Housing Unit Matching operation. Addresses that remain unmatched or have unresolved address status after matching will be sent to the Initial Housing Unit Follow-up operation, during which listers collect additional information that might allow a resolution of any differences between the Independent Listing and the preliminary census address list results. Matching to a preliminary census file of housing units allows the PES to conduct person interviews close to census day (April 1, 2020), rather than waiting until the final census list is available. In the Final Housing Unit Matching operation addresses collected in the Independent Listing operation are matched to the final census list of housing units. The Initial Housing Unit Follow-up field operation seeks to answer questions needed to resolve the match or enumeration status of addresses identified in the Initial Housing Unit matching operation, while the Final Housing Unit Follow-up field operation seeks to answer similar questions identified in the Final Housing Unit matching operation. A Federal Register Notice has been issued for the PES Independent Listing operation (Federal Register Notice Vol. 83 FR 53849, pages 53849-53850). Federal Register Notices for the Person Interview and Person Follow-up operations will be issued at a later date.

Addresses identified for both Initial and Final Housing Unit Follow-ups will generally need additional information to determine housing unit status (for example, to clarify if the addresses refer to a housing unit or commercial building and to identify duplicate addresses) or to resolve inconsistencies between the PES and census addresses. Using paper questionnaires tailored to capture information needed to resolve each specific status question or discrepancy, listers will contact a member of each housing unit and ask questions to resolve housing unit status or to clarify discrepancies. If the listers do not find anyone at home after several attempts, they will try to collect the information from a proxy or by observation as a last resort. Proxies are respondents who are not members of the household.

The Initial and Final Housing Unit Follow-up operations will also have separate quality control operations. The first quality control operation is the Initial Housing Unit Follow-up Quality Control, which contains 15 percent of the Initial Housing Unit Follow-up workload. The second quality control operation is the Final Housing Unit Follow-up Quality Control, which contains 15 percent of the Final Housing Unit Follow-up workload. These operations are implemented to ensure that the work performed is of acceptable quality.

II. Method of Collection

The Housing Unit Follow-up and Housing Unit Follow-up Quality Control operations will be conducted through personal visits using paper questionnaires. Listers will receive work assignments grouped by geography and in close proximity to the lister's residence whenever possible. The PES Initial Housing Unit Follow-up and Initial Housing Unit Follow-up Quality Control operations will occur May 6, 2020 through June 19, 2020. The PES Final Housing Unit Follow-up and Final Housing Unit Follow-up Quality Control operations will occur starting May 19, 2021 through June 18, 2021.

A sample of approximately 180,000 housing units will be selected for the Initial Housing Unit Follow-up operation and approximately 8,000 housing units will be selected for the Final Housing Unit Follow-up operation. Housing Unit Follow-up listers are expected to knock on every door that requires additional information over several spaced visits in their assigned BCUs to try to find a resident or proxy to ask about the units. The Initial Housing Unit Follow-up Quality Control operation will contain about 27,000 housing units and the Final Housing Unit Follow-up Quality Control operation will contain about 1,200 housing units.

Definition of Terms

Components of Census Coverage— The components of census coverage include correct enumerations, erroneous enumerations, whole-person imputations, and omissions. Correct enumerations are people or housing units that were correctly enumerated in the census. Erroneous enumerations are people or housing units that were enumerated in the census but should not have been. Examples of erroneous enumerations are duplicates, nonexistent housing units or people, and people or housing units that were enumerated in the wrong place. Omissions are people and housing units that were not enumerated in the census but should have been. Lastly, whole-person imputations are census records for which all of the demographic characteristics were imputed. Many of these imputations represent people in housing units where we knew the household count but did not obtain sufficient information about the people residing at the housing unit.

Net Coverage—Reflects the difference between the true population (which is estimated by the Post-Enumeration Survey) and the census count. If the census count was less than the actual number of people or housing units in the population, then we say there was an undercount. If the census count was more than the actual number of people or housing units in the population, then we say there was an overcount.

For more information about the Post-Enumeration Survey, please visit the following page of the Census Bureau's website: https://www.census.gov/coverage_measurement/post-enumeration_surveys/.

III. Data

OMB Control Number: 0607-XXXX.

Form Numbers: D-1303, D-1303PR, D-1340, D-1340PR, D-1380, D-1380PR, D-1325, and D-1325PR.

Type of Review: Regular submission.

Affected Public: Individuals or Households.

2020 Census
Operation | Estimated number of respondents | Estimated time per response (in minutes) | Total burden hours
Initial Housing Unit Follow-up | 180,000 | 5 | 15,000
Initial Housing Unit Follow-up Quality Control | 27,000 | 5 | 2,250
Final Housing Unit Follow-up | 8,000 | 5 | 667
Final Housing Unit Follow-up Quality Control | 1,200 | 5 | 100

Estimated Total Annual Burden Hours: 18,017 hours.

Estimated Total Annual Cost: $0. (This is not the cost of respondents' time, but the indirect costs respondents may incur for such things as purchases of specialized software or hardware needed to report, or expenditures for accounting or records maintenance services required specifically by the collection.)

Respondent's Obligation: Mandatory.

Legal Authority: Title 13, U.S. Code, Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-07611 Filed 4-16-19; 8:45 am]

BILLING CODE 3510-07-P